DEPARTMENT OF HEALTH AND HUMAN SERVICES

National Institutes of Health

National Heart, Lung, and Blood Institute; Notice of Meeting

Notice is hereby given of a change in the meeting of the Sleep Disorders Research Advisory Board, April 6, 2023, 12 p.m. to 5 p.m., and April 7, 2023, 9 a.m. to 2 p.m., National Institutes of Health, Two Rockledge Centre, Rockledge I, 6705 Rockledge Drive, Bethesda, MD 20892 which was published in the Federal Register on March 16, 2023, 88 FRN 16275.

This notice is being amended to change the meeting start time for April 6, 2023 from 12:00 p.m. to 1:00 p.m. Also, the in person location is amended for both days to Two Rockledge Centre, 6701 Rockledge Drive, Suite 260, Bethesda, MD 20817.

Dated: March 20, 2023.
David W. Freeman,
Program Analyst, Office of Federal Advisory Committee Policy.

[FR Doc. 2023-06085 Filed 3-24-23; 8:45 am]

BILLING CODE 4140-01-P